DEPARTMENT OF HOUSING AND URBAN DEVELOPMENT

[Docket No: FR-5667-N-02]

Announcement of Issuance by HUD of Notice of Senior Preservation Rental Assistance Contracts Award Process and Solicitation of Applications

AGENCY: Office of the Assistant Secretary for Housing—Federal Housing Commissioner, HUD.

ACTION: Notice.

SUMMARY: This notice announces the availability on HUD's Web site of the “Notice of Senior Preservation Rental Assistance Contracts Award Process” (Notice), which specifies the process by which HUD will award Senior Preservation Assistance Contracts (SPRACs). The Notice also starts the application process, and solicits applications for a period of 60 days. The Notice can be found at: http://portal.hud.gov/hudportal/HUD?src=/program_offices/housing/mfh/presrv/presmfh/sprac_contracts.

DATES: SPRAC applications must be submitted to HUD in accordance with the posted Notice by September 3, 2013.

FOR FURTHER INFORMATION CONTACT: Margaret Salazar, Acting Director, Office of Affordable Housing Preservation, Office of Housing, Department of Housing and Urban Development, 451 7th Street SW., Room 6230, Washington, DC 20410; telephone number 202-708-0001 (this is not a toll-free number). Persons with hearing or speech impairments may access this number through TTY by calling the toll-free Federal Relay Service at 800-877-8339.

SUPPLEMENTARY INFORMATION: The Section 202 Supportive Housing for the Elderly Act of 2010, signed into law on January 2011, authorizes HUD to award SPRACs with 20-year terms to Owner-Applicants and existing Section 202 properties that meet the SPRAC eligibility criteria of this final Notice. The purpose of the SPRAC Program is to prevent the displacement of existing tenants of certain projects assisted under HUD's Section 202 Supportive Housing for the Elderly program in the case of refinancing or recapitalization and to further preserve and maintain the affordability of Section 202 Direct Loan projects. In Fiscal Year (FY) 2012, $16 million was made available for SPRAC funding.

The Notice, posted on HUD's Web site, establishes the process by which HUD will award SPRACs, and commences the solicitation of applications. The Notice follows a January 8, 2013, advance notice in which HUD presented and solicited public comment on the proposed eligibility and award criteria. This Notice takes into consideration the public comments received in response to the January 8, 2013, solicitation.

Dated: June 27, 2013.
Carol J. Galante,
Assistant Secretary for Housing-Federal Housing Commissioner.

[FR Doc. 2013-16073 Filed 7-2-13; 8:45 am]

BILLING CODE 4210-67-P